DEPARTMENT OF TRANSPORTATION

Federal Aviation Administration

14 CFR Part 71

[Docket No. FAA-2003-15078; Airspace Docket No. 03-ACE-46]

Modification of Class E Airspace; Red Oak, IA

AGENCY: Federal Aviation Administration (FAA), DOT.

ACTION: Direct final rule; request for comments; correction.

SUMMARY: This action corrects a direct final rule; request for comments that was published in the Federal Register on Friday, May 23, 2003, (68 FR 28123) [FR Doc. 03-13045]. It corrects an error in the dimension and legal description of the Red Oak, IA Class E airspace area.

DATES: This direct final rule is effective on 0901 UTC, September 4, 2003.

FOR FURTHER INFORMATION CONTACT: Kathy Randolph, Air Traffic Division, Airspace Branch, ACE-520C, DOT Regional Headquarters Building, Federal Aviation Administration, 901 Locust, Kansas City, MO 64106; telephone: (816) 329-2525.

SUPPLEMENTARY INFORMATION:

History

Federal Register Document 03-13045, published on Friday, May 23, 2003, (68 FR 28123) modified Class E airspace at Red Oak, IA. The modification was to correct the Red Oak Municipal Airport, IA airport reference point used in the legal description of the Red Oak, IA Class E airspace area and to bring the airspace area into compliance with FAA Order 7400.2E, Procedures for handling Airspace Matters. The information published, however, did not correct a previous error in the volume of Class E airspace necessary at Red Oak, IA and did not bring the airspace area into compliance with the order. This action rectifies the oversight and does bring the Red Oak, IA Class E airspace into compliance with FAA Order 7400.2E.

Accordingly, pursuant to the authority delegated to me, the Red Oak, IA Class E airspace, as published in the Federal Register on Friday, May 23, 2003, (68 FR 28123), [FR Doc. 03-13045] is corrected as follows:

§ 71.1 [Corrected]

On page 28124, Column 3, second paragraph, sixth and ninth lines after heading “ACE IA E5 Red Oak, IA,” change “6-mile radius” to read “6.4-mile radius.”

Issued in Kansas City, MO, on July 1, 2003.
Herman J. Lyons, Jr.,
Manager, Air Traffic Division, Central Region.

[FR Doc. 03-17761 Filed 7-14-03; 8:45 am]

BILLING CODE 4910-13-M